ENVIRONMENTAL PROTECTION AGENCY

40 CFR Part 81

[EPA-R09-OAR-2013-0104; FRL-9802-5]

Designation of Areas for Air Quality Planning Purposes; State of Nevada; Total Suspended Particulate

AGENCY: Environmental Protection Agency (EPA).

ACTION: Proposed rule.

SUMMARY: EPA is proposing to delete certain area designations for total suspended particulate within the State of Nevada because the designations are no longer necessary. These designations relate to the attainment or unclassifiable areas for total suspended particulate in Clark County as well as the following nonattainment areas for total suspended particulate elsewhere within the State of Nevada: Carson Desert, Winnemucca Segment, Lower Reese Valley, Fernley Area, Mason Valley, and Clovers Area. EPA is proposing this action under the Clean Air Act.

DATES: Written comments must be received on or before May 16, 2013.

ADDRESSES: Submit comments, identified by docket number EPA-R09-OAR-2013-0104, by one of the following methods:

1. Federal eRulemaking Portal: www.regulations.gov: Follow the on-line instructions for submitting comments.

2. Email: oconnor.karina@epa.gov.

3. Mail or deliver: Karina O'Connor (AIR-2), U.S. Environmental Protection Agency Region IX, 75 Hawthorne Street, San Francisco, CA 94105-3901.

Instructions: All comments will be included in the public docket without change and may be made available online at www.regulations.gov, including any personal information provided, unless the comment includes Confidential Business Information (CBI) or other information whose disclosure is restricted by statute. Information that you consider CBI or otherwise protected should be clearly identified as such and should not be submitted through www.regulations.gov or email. www.regulations.gov is an “anonymous access” system, and EPA will not know your identity or contact information unless you provide it in the body of your comment. If you send email directly to EPA, your email address will be automatically captured and included as part of the public comment. If EPA cannot read your comment due to technical difficulties and cannot contact you for clarification, EPA may not be able to consider your comment.

Docket: The index to the docket for this action is available electronically at www.regulations.gov and in hard copy at EPA Region IX, 75 Hawthorne Street, San Francisco, California. While all documents in the docket are listed in the index, some information may be publicly available only at the hard copy location (e.g., copyrighted material), and some may not be publicly available in either location (e.g., CBI). To inspect the hard copy materials, please schedule an appointment during normal business hours with the contact listed in the FOR FURTHER INFORMATION CONTACT section below.

FOR FURTHER INFORMATION CONTACT: Karina O'Connor, EPA Region IX, (775) 434-8176, oconnor.karina@epa.gov.

SUPPLEMENTARY INFORMATION: This proposal relates to deletions of certain area designations for total suspended particulate (TSP) in the State of Nevada. Specifically, EPA proposes to delete the attainment or unclassifiable areas for total suspended particulate in Clark County as well as the following nonattainment areas for total suspended particulate elsewhere within the State of Nevada: Carson Desert, Winnemucca Segment, Lower Reese Valley, Fernley Area, Mason Valley, and Clovers Area. EPA is proposing this action under section 107(d)(4)(B) of the Clean Air Act based on the Agency's determination that the TSP designations for these areas are no longer necessary.

In the Rules and Regulations section of this Federal Register, EPA is deleting these area designations in a direct final rule without prior proposal because the Agency views this as a non-controversial action and anticipates no adverse comments. A detailed rationale for the deletions is set forth in the preamble to the direct final rule. If EPA receives no adverse comments, EPA will not take further action on this proposed rule. If EPA receives adverse comments, EPA will publish a timely withdrawal of the direct final rule in the Federal Register to notify the public that the direct final rule will not take effect. EPA will address all public comments in a subsequent final rule based on this proposed rule. EPA will not institute a second comment period on this action. Any parties interested in commenting must do so at this time. Please note that if EPA receives adverse comment on an amendment, paragraph, or section of this rule and if that provision may be severed from the remainder of the rule, EPA may adopt as final those provisions of the rule that are not the subject of an adverse comment. For additional information, please see the direct final rule of the same title which is located in the Rules and Regulations section of this Federal Register.

Dated: April 1, 2013.
Jared Blumenfeld,
Regional Administrator, Region IX.

[FR Doc. 2013-08840 Filed 4-15-13; 8:45 am]

BILLING CODE 6560-50-P